FEDERAL ACCOUNTING STANDARDS BOARD

Notice of Issuance of Statement of Federal Financial Accounting Standards (SFFAS) No. 25

AGENCY: Federal Accounting Standards Advisory Board.

Board Action: Pursuant to the Federal Advisory Committee Act (Pub. L. 92-463), as amended, and the FASAB Rules of Procedure, as amended in October, 1999, notice is hereby given that the Federal Accounting Standards Advisory Board has issued Statement of Federal Financial Accounting Standards (SFFAS) No. 25, Reclassification of Stewardship Responsibilities and Eliminating the Current Services Assessment.

The Board approved the Statement in April 2003, and submitted it to FASAB principals for 90-day review, the review period closed on July 17, 2003.

SFFAS No. 25 changes the classification of information about stewardship responsibilities required by SFFAS 5 and 17. Information about “risk assumedrdquo; will become required supplementary information (RSI). The Statement of Social Insurance will become a basic financial statement. Other information about social insurance required by SFFAS 17 will be reported as RSI or in a footnote. SFFAS 25 also eliminates the requirement to present certain information about stewardship responsibilities, known as the “current services assessment,” previously required by SFFAS 8.

The standards prescribed in SFFAS No. 25 are effective for periods beginning after September 30, 2003. Hard copies of the statement will be mailed to the FASAB mailing list. It is also available on the FASAB Web site at www.fasab.gov or by calling 202-512-7350.

FOR FURTHER INFORMATION, CONTACT: Wendy Comes, Executive Director, 441 G St., NW., Mail Stop 6K17V, Washington, DC 20548, or call 202-512-7350.

Authority: Federal Advisory Committee Act. Pub. L. 92-463.

Dated: July 17, 2003.
Wendy M. Comes,
Executive Director.

[FR Doc. 03-18424 Filed 7-18-03; 8:45 am]

BILLING CODE 1610-01-M